ENVIRONMENTAL PROTECTION AGENCY

[OPPT-2003-0004; FRL-7359-5]

Access to Confidential Business Information by Logistics Management Institute

AGENCY: Environmental Protection Agency (EPA).

ACTION: Notice.

SUMMARY: EPA has authorized its contractor Logistics Management Institute (LMI), of McLean, VA, access to information which has been submitted to EPA under all sections of the Toxic Substances Control Act (TSCA). Some of the information may be claimed or determined to be Confidential Business Information (CBI).

DATES: Access to the confidential data will occur no sooner than June 10, 2004.

FOR FURTHER INFORMATION CONTACT: Colby Lintner, Regulatory Coordinator, Environmental Assistance Division (7408M), Office of Pollution Prevention and Toxics, Environmental Protection Agency, 1200 Pennsylvania Ave., NW., Washington, DC 20460; telephone number: (202) 554-1404; e-mail address:TSCA-Hotline@.epa.gov.

SUPPLEMENTARY INFORMATION:

I. General Information

A. Does this Notice Apply to Me?

This action is directed to the public in general. This action may, however, be of interest to those persons who are or may be required to conduct testing of chemical substances under TSCA. Since other entities may also be interested, the Agency has not attempted to describe all the specific entities that may be affected by this action. If you have any questions regarding the applicability of this action to a particular entity, consult the person listed under FOR FURTHER INFORMATION CONTACT.

B. How Can I Get Copies of this Document and Other Related Documents?

1. Docket. EPA has established an official public docket for this action under docket identification (ID) number OPPT-2003-0004. The official public docket consists of the documents specifically referenced in this action, any public comments received, and other information related to this action. Although a part of the official docket, the public docket does not include CBI or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

Under EPA IAG Number DW-36-92161001-0, LMI of 2000 Corporate Ridge, McLean, VA, will assist EPA's Office of Pollution Prevention and Toxics (OPPT) by providing Oracle operations and maintenance support for OPPT's Confidential Business Information Tracking system. The operations and maintenance support shall fill a necessary role in OPPT's ability to properly maintain the production application. Support shall include Oracle development work and Oracle server work.

In accordance with 40 CFR 2.306(j), EPA has determined that under EPA IAG Number DW-36-92161001-0, LMI will require access to CBI submitted to EPA under all sections of TSCA, to perform successfully the duties specified under the agreement.

LMI personnel will be given information submitted to EPA under all sections of TSCA. Some of the information may be claimed or determined to be CBI.

EPA is issuing this notice to inform all submitters of information under all sections of TSCA, that the Agency may provide LMI access to these CBI materials on a need-to-know basis only. All access to TSCA CBI under this contract will take place at EPA Headquarters only. LMI personnel will be required to adhere to all provisions of EPA's TSCA Confidential Business Information Security Manual.

Clearance for access to TSCA CBI under EPA IAG Number DW-36-92161001-0 may continue until April 1, 2005. Access will commence no sooner than June 10, 2004.

LMI personnel have signed nondisclosure agreements and will be briefed on appropriate security procedures before they are permitted access to TSCA CBI.

List of Subjects

Environmental protection, Confidential business information.

Dated: May 26, 2004.
Brian Cook,
Director, Information Management Division, Office of Pollution Prevention and Toxics.

[FR Doc. 04-12557 Filed 6-2-04; 8:45 am]

BILLING CODE 6560-50-S